DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on February 27, 2004. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period are necessary.

Factors considered in making such a determination shall include, but are not limited to (i) the significance of the modification, and (ii) the degree of public interest which has been expressed over the course of the negotiations. At a minimum, the regional director shall furnish revised contracts to all parties who requested the contract in response to the initial public notice.

The February 27, 2004, notice should be used as a reference point to identify changes. The numbering system in this notice corresponds with the numbering system in the February 27, 2004.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

O&M—Operation and Maintenance

P-SMBP—Pick-Sloan Missouri Basin Program

PPR-Present Perfected Right

SOD—Safety of Dams

WD-Water District

Pacific Northwest Region: Bureau of Reclamation, 1150 North Curtis Road, Suite 100, Boise, Idaho 83706-1234, telephone 208-378-5223.

Completed Contract Action

8. Baker Valley ID, Baker Project, Oregon: Warren Act contract with cost of service charge to allow for use of project facilities to store nonproject water. Contract executed on February 28, 2004.

Mid-Pacific Region: Bureau of Reclamation, 2800 Cottage Way, Sacramento, California 95825-1898, telephone 916-978-5250.

New Contract Action

39. Pershing County Water Conservation District, Humboldt Project, Nevada: Title transfer agreement for conveyance of the Humboldt Project. Modified contract action:

5. Sutter Extension WD, Delano-Earlimart ID, and the State of California Department of Water Resources, CVP, California: Pursuant to Pub. L. 102-575, cooperative agreements with non-Federal entities for the purpose of providing funding for CVP refuge water wheeling facility improvements to provide water for refuge and private wetlands.

Discontinued Contract Actions

16. City of Redding, CVP, California: Amend water service contract No. 14-06-200-5272A, for the purpose of renegotiating the provisions of contract Article 15, “Water Shortage and Apportionment,” to conform to current CVP M&I water shortage policy.

27. Contra Costa WD, CVP, California: Amend water service contract No. I75r-3401A to extend the date for renegotiation of the provisions of contract Article 12 “Water Shortage and Apportionment.”

Completed Contract Actions

21. El Dorado ID, CVP, California: Title transfer agreement for conveyance of CVP facilities. This agreement will allow transfer of title for Sly Park Dam, Jenkinson Lake, and appurtenant facilities from the CVP to El Dorado ID. Title transfer completed on December 23, 2003.

35. Banta-Carbona ID, CVP, California: Proposed partial assignment of up to 5,000 acre-feet of Banta Carbona ID's CVP water to the City of Tracy for M&I use. Partial assignment executed on February 27, 2004.

36. The West Side ID, CVP, California: Proposed partial assignment of up to 5,000 acre-feet of the West Side ID's CVP irrigation water to the City of Tracy for M&I use. Partial assignment executed in February 27, 2004.

Lower Colorado Region: Bureau of Reclamation, PO Box 61470 (Nevada Highway and Park Street), Boulder City, Nevada 89006-1470, telephone 702-293-8536.

New Contract Actions

45. Miscellaneous PPR No. 43, BCP, California: Contract with the City of Needles for 1,500 acre-feet diversion and 950 acre-feet consumptive use.

46. Metropolitan Domestic Water Improvement District, CAP, Arizona: Subcontract for 8,858 acre-feet of water for M&I use.

47. Cortaro-Marina ID, CAP, Arizona: Agreement with Reclamation and Arizona municipalities concerning the operation of a managed effluent recharge facility in the Santa Cruz River Channel.

Modified Contract Actions

3. GOBO Farms, BCP, Arizona: Colorado River water delivery contract for 924 acre-feet of Colorado River water per year as recommended by the Arizona Department of Water Resources.

26. Jessen Family Limited Partnership, BCP, Arizona: Contract for delivery of 1,080 acre-feet of Colorado River water for agricultural purposes.

Completed Contract Actions

41. Green Valley Water Company, CAP, Arizona: Assignment of subcontract entitlement of 1,900 acre-feet of M&I water per year to Green Valley Domestic Improvement District.

42. Midvale Farms Water Company, CAP, Arizona: Assignment of allocation for 1,500 acre-feet of M&I water per year to the City of Tucson.

46. Metropolitan Domestic Water Improvement District, CAP, Arizona: Subcontract for 8,858 acre-feet of water for M&I use.

Upper Colorado Region: Bureau of Reclamation, 125 South State Street, Room 6107, Salt Lake City, Utah 84138-1102, telephone 801-524-3864.

New Contract Actions

1.(e) Thomas Chapman, Aspinall Storage Unit, CRSP: Mr. Chapman has requested a 40-year water service contract for 1 acre-foot of water out of Blue Mesa Reservoir to support his pending plan of augmentation, Water Division 4.

23. State of Colorado, Animas-La Plata Project, Colorado and New Mexico: Cost sharing/repayment contract for up to 10,440 acre-feet per year of M&I water; contract terms to be consistent with the Colorado Ute Settlement Act Amendments of 2000 (Title III of Pub. L. 106-554).

24. Coon Creek Reservoir and Ditch Company, Collbran Project: The Coon Creek Reservoir and Ditch Company and the Collbran Conservancy District have requested a nonproject irrigation carriage contract (40-year) to have 3 cfs, not to exceed 1,000 acre-feet annually, of their direct flow irrigation water rights diverted into and delivered through the existing Southside Canal, a feature of the Collbran Project delivery structures.

Discontinued Contract Actions

1.(a) United States Fish and Wildlife Service, Aspinall Unit, CRSP; Colorado: Contract for 25 acre-feet to support an augmentation plan to provide water for the Hotchkiss Fish Hatchery ponds, used to grow out endangered fish, which is a part of the Endangered Fish Recovery Program.

13. Castle Valley Special Service District, City of Huntington, Emery County Project: Assignment of contract for 189 acre-feet of water for municipal purposes.

17. South Cache Water Users Association, Hyrum Project, Utah: Contract to allow the Association to convert up to 1,000 acre-feet of project irrigation water annually to municipal, domestic, and industrial uses.

Great Plains Region: Bureau of Reclamation, PO Box 36900, Federal Building, 316 North 26th Street, Billings, Montana 59107-6900, telephone 406-247-7790.

New Contract Actions

36. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project.

37. Northern Integrated Supply Project, Colorado-Big Thompson Project, Colorado: Consideration of a new long-term contract with approximately 14 regional water suppliers and the Northern Colorado Water Conservancy District for the Northern Integrated Supply Project.

38. Kansas-Bostwick ID No. 2; Franklin, Superior-Courtland, and Courtland Units; Bostwick Division; P-SMBP; Courtland, Kansas: The District requested a deferment of its 2004 repayment obligation. A request is being prepared to amend contract No. 009D6B0120 to defer payments in accordance with the Act of September 21, 1959.

39. Frenchman Valley ID, Frenchman Unit, Frenchman-Cambridge Division, P-SMBP, Culbertson, Nebraska: The District requested a deferment of its 2004 repayment and reserve fund obligations. A request is being prepared to amend contract No. 009E6B0123 to defer payments in accordance with the Act of September 21, 1959.

40. Bostwick ID; Franklin, Superior-Courtland, and Courtland Units; Bostwick Division; P-SMBP; Red Cloud, Nebraska: The District requested a deferment of its 2004 repayment and water service obligations. A request is being prepared to amend contract No. 009E6B0121 to defer payments in accordance with the Act of September 21, 1959.

41. Frenchman-Cambridge ID; Meeker-Driftwood, Red Willow, and Cambridge Units; Frenchman-Cambridge Division; P-SMBP; Cambridge, Nebraska: The District requested a deferment of its 2004 repayment obligation. A request is being prepared to amend contract No. 009D6B0122 to defer payments in accordance with the Act of September 21, 1959.

Modified Contract Actions

14. Lower Marias Unit, P-SMBP, Montana: Negotiating for a long-term water service contract with Julie Peterson for the use of up to 478 acre-feet of storage water from Tiber Reservoir to irrigate 239 acres. Temporary/interim contracts are being issued to allow continued delivery of water and the time necessary to complete required actions for the long-term contract process.

22. Helena Valley Unit, P-SMBP, Montana: Initiating discussions with Helena Valley ID for renewal of Part A of the A/B contract which expires December 31, 2004.

23. Crow Creek Unit, P-SMBP, Montana: Initiating discussions with Toston ID for renewal of Part A of the A/B contract which expires December 31, 2004.

28. Helena Valley Unit, P-SMBP, Montana: The long-term water service contract with the City of Helena, Montana, expires December 31, 2004. Initiating discussions for contract renewal for an annual supply of raw water for domestic and M&I use from Helena Valley Reservoir.

Completed Contract Actions

32. Town of Deaver, Shoshone Project, Wyoming: Negotiate a long-term contract for up to 475 acre-feet of irrigation water from the two drains below Deaver Reservoir. The contract was executed December 27, 2003.

33. Tom Green County Water Control and Improvement District No. 1, San Angelo Project, Texas: The District has requested a partial deferment of its 2003 repayment obligation. An amendment to contract No. 14-06-500-369 was executed January 29, 2004.

Dated: March 25, 2004.
Roseann Gonzales,
Director, Office of Program and Policy Services.

[FR Doc. 04-11198 Filed 5-17-04; 8:45 am]

BILLING CODE 4310-MN-P